NUCLEAR REGULATORY COMMISSION

[NRC-2009-0442]

NUREG-1924, “Electric Raceway Fire Barrier Systems (ERFBS) in Nuclear Power Plants, Draft Report for Comment”

AGENCY: Nuclear Regulatory Commission (NRC).

ACTION: Notice of availability of NUREG-1924, “Electric Raceway Fire Barrier Systems (ERFBS) in Nuclear Power Plants, Draft Report for Comment” and request for public comment.

SUMMARY: The NRC is making the proposed draft, “NUREG-1924, “Electric Raceway Fire Barrier Systems (ERFBS) in Nuclear Power Plants, Draft Report for Comment,” available for public comment.

DATES: Comments on this document should be submitted by Friday, December 4, 2009. Comments received after that date will be considered to the extent practicable. To ensure efficient and complete comment resolution, comments should include section, page, and line numbers of the document to which the comment applies, if possible.

ADDRESSES: You may submit comments by any one of the following methods. Please include Docket ID NRC-2009-0442 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0442. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The proposed draft NUREG-1924, “Electric Raceway Fire Barrier Systems (ERFBS) in Nuclear Power Plants,” is available electronically under ADAMS Accession Number ML092650002.

Federal Rulemaking Web site: Public comments and supporting materials related to this notice can be found at http://www.regulations.gov by searching on Docket ID: NRC-2009-0442.

FOR FURTHER INFORMATION CONTACT: Gabriel Taylor, Fire Research Branch, Division of Risk Analysis, Office of Nuclear Regulatory Research, telephone (301) 251-7576, e-mail gabriel.taylor@nrc.gov.

SUPPLEMENTARY INFORMATION: In response to the 1975 Browns Ferry fire, the United States Nuclear Regulatory Commission (NRC) issued Appendix R to Title 10 of the Code of Federal Regulations part 50 (10 CFR part 50). To support fire protection defense-in-depth one- or three-hour Electric Raceway Fire Barrier Systems (ERFBS) were permitted for use as an acceptable method to protect electrical cables essential to fire protection safe shutdown capability. However, ERFBS were a new approach to fire barrier applications and as the initial installation of the ERFBS began, there was uncertainty regarding the ERFBS performance and definitive test standards for ERFBS qualification. Following review and research efforts, the NRC resolved many concerns with ERFBS, including the fire resistance, ampacity derating, and seismic position retention. This report documents the history of these barriers and how US NPPs use ERFBS for compliance. This report also documents the current state of the use of these barriers and evaluates the effectiveness of these barriers in achieving adequate protection for nuclear power plants.

The NRC is seeking public comment in order to receive feedback from the widest range of interested parties and to ensure that all information relevant to the information contained within this document is correct and accurate. This document is issued for comment only and is not intended for interim use. The NRC will review public comments received on the documents, incorporate suggested changes as necessary, and make the final NUREG-report available to the public.

Dated at Rockville, Maryland, this 1st day of October 2009.
For the Nuclear Regulatory Commission.
Mark H. Salley,
Chief, Fire Research Branch, Division of Risk Analysis, Office of Nuclear Regulatory Research.

[FR Doc. E9-24211 Filed 10-6-09; 8:45 am]

BILLING CODE 7590-01-P